DEPARTMENT OF COMMERCE

Foreign-Trade Zones Board

[B-54-2022]

Foreign-Trade Zone (FTZ) 15—Kansas City, Missouri; Notification of Proposed Production Activity; Moly-Cop USA, LLC (Forged Steel Grinding Balls), Kansas City, Missouri

Moly-Cop USA, LLC submitted a notification of proposed production activity to the FTZ Board (the Board) for its facility in Kansas City, Missouri within FTZ 15. The notification conforming to the requirements of the Board's regulations (15 CFR 400.22) was received on November 17, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is forged steel grinding balls (duty rate is duty-free).

The proposed foreign-status material and component is hot-rolled alloy steel round bar (duty rate is duty-free). The request indicates that hot-rolled alloy steel round bar is subject to duties under section 232 of the Trade Expansion Act of 1962 (section 232) or Section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is January 3, 2023.

A copy of the notification will be available for public inspection in the “Online FTZ Information System” section of the Board's website.

For further information, contact Juanita Chen at juanita.chen@trade.gov.

Dated: November 17, 2022.
Andrew McGilvray,
Executive Secretary.

[FR Doc. 2022-25506 Filed 11-22-22; 8:45 am]

BILLING CODE 3510-DS-P